DEPARTMENT OF ENERGY

Federal Energy Regulatory Commission

[Project No. 15410-000]

Western Maine Energy Storage, LLC; Notice of Preliminary Permit Application Accepted for Filing and Soliciting Comments, Motions To Intervene, and Competing Applications

On July 22, 2025, Western Maine Energy Storage, LLC (Western Maine Energy) filed an application for a preliminary permit, pursuant to section 4(f) of the Federal Power Act (FPA), proposing to study the feasibility of the Western Maine Energy Storage Project No. 15410 (project), to be located off river, on 625 acres of private land near the Town of Dixfield, Oxford County, Maine. The sole purpose of a preliminary permit, if issued, is to grant the permit holder priority to file a license application during the permit term. A preliminary permit does not authorize the permit holder to perform any land-disturbing activities or otherwise enter upon lands or waters owned by others without the owners' express permission.

The proposed pumped storage project would consist of the following new features: (1) a 100-acre upper reservoir with a storage capacity of 3,500 acre-feet; (2) a 100-acre lower reservoir with a storage capacity of 4,500 acre-feet; (3) two 16-foot-diameter, 7,820-foot-long round steel penstocks; (4) a 125-foot-long, 100-foot-wide concrete powerhouse; (5) a water intake structure and 2.3-mile-long intake pipe; (6) ground water wells; (7) a 2-mile-long, 115 kilovolt (kV) generator tie-in transmission line; (8) two Double Ring Bus interconnects on two existing 115 kV transmission lines; (9) two pump/turbines each with a rating range of 200-250 megawatts (MW); and (10) two generators each with a rating range of 200-250 MW. The proposed project would have an estimated average annual generation of 1,000,000 megawatt-hours.

Applicant Contact: Craig Weaver, Western Maine Energy, P.O. Box 1000, Pittsfield, ME 04967; phone: (207) 679-2569; email: info@westernmaineenergystorage.com.

FERC Contact: Justin R. Robbins; phone: (202) 502-8308, or by email at justin.robbins@ferc.gov.

Deadline for filing comments, motions to intervene, competing applications (without notices of intent), or notices of intent to file competing applications: on or before 5:00 p.m. Eastern Time on October 27, 2025. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15410-000.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

More information about this project, including a copy of the application, can be viewed on the Commission's website (http://www.ferc.gov) using the “eLibrary” link. Enter the docket number, excluding the last three digits (P-15410), in the docket number field to access the document. For assistance, contact FERC Online Support.

Dated: August 26, 2025.
Debbie-Anne A. Reese,
Secretary.

[FR Doc. 2025-16639 Filed 8-28-25; 8:45 am]

BILLING CODE 6717-01-P